DEPARTMENT OF COMMERCE

International Trade Administration

[C-475-819, C-489-806, A-489-805, A-475-818]

Certain Pasta from Turkey and Italy: Continuation of Countervailing Duty and Antidumping Duty Orders

AGENCY: Import Administration, International Trade Administration, Department of Commerce.

SUMMARY: On October 2, 2006, the Department of Commerce (“the Department”) initiated sunset reviews of the antidumping duty (“AD”) orders and countervailing duty (“CVD”) orders on certain pasta from Italy and Turkey. As a result of the determinations by the Department and the International Trade Commission (“ITC”) that revocation of the AD and CVD orders on pasta from Italy and Turkey would likely lead to continuation or recurrence of dumping and countervailable subsidies, and material injury to an industry in the United States, the Department is publishing a notice of continuation of these AD and CVD orders.

EFFECTIVE DATE: October 12, 2007.

FOR FURTHER INFORMATION CONTACT: Audrey Twyman (CVD), James Terpstra (AD), or Brandon Farlander, AD/CVD Operations, Import Administration, International Trade Administration, U.S. Department of Commerce, 14th Street & Constitution Avenue, NW, Washington, DC 20230; telephone: (202) 482-3534, (202) 482-3965, and (202) 482-0182, respectively.

SUPPLEMENTARY INFORMATION:

Background

The AD and CVD orders which cover pasta from Turkey and Italy were published in the Federal Register on July 24, 1996. See Notice of Countervailing Duty Order: Certain Pasta (“Pasta”) From Turkey, 61 FR 38546 (July 24, 1996); Notice of Countervailing Duty Order and Amended Final Affirmative Countervailing Duty Determination: Certain Pasta (“Pasta”) From Italy, 61 FR 38544 (July 24, 1996); Notice of Antidumping Duty Order and Amended Final Determination of Sales at Less Than Fair Value: Certain Pasta From Turkey, 61 FR 38545 (July 24, 1996); and Notice of Antidumping Duty Order and Amended Final Determination of Sales at Less Than Fair Value: Certain Pasta From Italy, 61 FR 38547 (July 24, 1996).

On October 2, 2006, the Department initiated and the ITC instituted sunset reviews of the AD and CVD orders on pasta from Italy and Turkey pursuant to section 751(c) of the Tariff Act of 1930, as amended (“the Act”). See Initiation of Five-year (“Sunset”) Reviews, 71 FR 57921 (October 2, 2006); and Certain Pasta from Italy and Turkey, Investigations Nos. 701-TA-365-366 and 731-TA-734-735 (Second Review), 71 FR 57999 (October 2, 2006).

As a result of its reviews, the Department found that revocation of the AD and CVD orders would likely lead to continuation or recurrence of dumping and countervailable subsidies, and notified the ITC of the magnitude of the margins and net countervailable subsidies likely to prevail were the orders to be revoked. See Certain Pasta from Turkey: Final Results of Expedited Five-year (“Sunset”) Review of the Countervailing Duty Order, 72 FR 5269 (February 5, 2007); Certain Pasta from Italy: Final Results of Expedited Five-year (“Sunset”) Review of the Countervailing Duty Order, 72 FR 5271 (February 5, 2007); and Notice of Final Results of Expedited Sunset Reviews of the Antidumping Duty Orders: Certain Pasta from Italy and Turkey, 72 FR 5266 (February 5, 2007).

On September 27, 2007, the ITC determined pursuant to section 751(c) of the Act, that revocation of the AD and CVD orders on pasta from Italy and Turkey would likely lead to continuation or recurrence of material injury to an industry in the United States within a reasonably foreseeable time. See Certain Pasta from Italy and Turkey, Investigations Nos. 701-TA-365-366 and 731-TA-734-735 (Second Review), 72 FR 56382 (October 3, 2007).

Scope of the Orders

Imports covered by the orders are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of the orders are refrigerated, frozen, or canned pastas, as well as all forms of egg pasta, with the exception of non-egg dry pasta containing up to two percent egg white. Also excluded are imports of organic pasta from Italy that are accompanied by the appropriate certificate.

The merchandise subject to review is currently classifiable under item 1902.19.20 and 1901.90.9095 of the Harmonized Tariff Schedule of the United States (“HTSUS”). Although the HTSUS subheadings are provided for convenience and customs purposes, the written description of the merchandise subject to the order is dispositive.

Determination

As a result of the determinations by the Department and the ITC that revocation of these AD and CVD orders would likely lead to continuation or recurrence of dumping and countervailable subsidies, and material injury to an industry in the United States, pursuant to section 751(d)(2) of the Act, the Department hereby orders the continuation of the AD and CVD orders on pasta from Italy and Turkey. U.S. Customs and Border Protection will continue to collect AD and CVD cash deposits at the rates in effect at the time of entry for all imports of subject merchandise.

The effective date of continuation of these orders will be the date of publication in the Federal Register of this Notice of Continuation. Pursuant to section 751(c)(2) and 751(c)(6)(A) of the Act, the Department intends to initiate the next five-year review of these orders not later than September 2012.

These five-year (sunset) reviews and this notice are in accordance with section 751(c) of the Act. This notice is published pursuant to 751(c) and 771(i) of the Act and 19 CFR 351.218(f)(4).

Dated: October 4, 2007.
David M. Spooner,
Assistant Secretary for Import Administration.

[FR Doc. E7-20160 Filed 10-11-07; 8:45 am]

BILLING CODE 3510-DS-S